DEPARTMENT OF HEALTH AND HUMAN SERVICES

Centers for Disease Control and Prevention

Disease, Disability, and Injury Prevention and Control Special Emphasis Panel (SEP): CDC Public Health Research: Health Protection Research Initiative Graduate Training Program Grant, Request for Applications (RFA) CD07-001

In accordance with section 10(a)(2) of the Federal Advisory Committee Act (Pub. L. 92-463), the Centers for Disease Control and Prevention (CDC) announces the following meeting:

Name: Disease, Disability, and Injury Prevention and Control Special Emphasis Panel (SEP): CDC Public Health Research: Health Protection Research Initiative Graduate Training Program Grant, Request for Applications (RFA) CD07-001.

Time and Date: 12 p.m.-4 p.m., September 14, 2006 (Closed).

Place: Teleconference.

Status: The meeting will be closed to the public in accordance with provisions set forth in Section 552b(c)(4) and (6), Title 5 U.S.C., and the Determination of the Director, Management Analysis and Services Office, CDC, pursuant to Public Law 92-463.

Matters To Be Discussed: The meeting will include the review, discussion, and evaluation of applications received in response to RFA CD07-001, “CDC Public Health Research: Health Protection Research Initiative Graduate Training Program Grant.”

Contact Person For More Information: Christine Morrison, PhD., Scientific Review Administrator, Office of Extramural Research, CDC, 1600 Clifton Road, NE., Mailstop D72, Atlanta, GA 30333, Telephone 404.639.3098.

The Director, Management Analysis and Services Office, has been delegated the authority to sign Federal Register notices pertaining to announcements of meetings and other committee management activities, for both CDC and the Agency for Toxic Substances and Disease Registry.

Dated: July 20, 2006.
Alvin Hall,
Director, Management Analysis and Services Office, Centers for Disease Control and Prevention.

[FR Doc. E6-12015 Filed 7-26-06; 8:45 am]

BILLING CODE 4163-18-P